DEPARTMENT OF VETERANS AFFAIRS

Professional Certification and Licensure Advisory Committee; Notice of Meeting

The Department of Veterans Affairs (VA) gives notice under Public Law 92-463 (Federal Advisory Committee Act) that the Professional Certification and Licensure Advisory Committee has scheduled a meeting for Friday, November 5, 2004, at the Department of Veterans Affairs, Veterans Benefits Administration Conference Room 542, 1800 G Street, NW., Washington, DC, from 8:30 a.m. to 4 p.m. The meeting is open to the public.

The purpose of the Committee is to advise the Secretary of Veterans Affairs on the requirements of organizations or entities offering licensing and certification tests to individuals for which payment for such tests may be made under chapters 30, 32, 34, or 35 of title 38, United States Code.

The meeting will begin with opening remarks by Ms. Sandra Winborne, Committee Chair. During the morning session, there will be a presentation on the usage of the license and certification test reimbursement benefit; a presentation on improvements, for program purposes, to VA systems; and a discussion of the changes VA is considering to the draft VA circular 22-01-01, Appendix C, Licensing and Certification Tests. The afternoon session will include a presentation on the results of the second government-wide Advisory Committee Engagement Survey, statements from the public, old business, and any new business.

Interested persons may file written statements to the Committee before the meeting, or within 10 days after the meeting, with Mr. Giles Larrabee, Designated Federal Officer, Department of Veterans Affairs, Veterans Benefits Administration (225B), 810 Vermont Avenue, NW., Washington, DC 20420. Oral statements from the public will be heard at 1 p.m. on November 5. Anyone wishing to attend the meeting should contact Mr. Giles Larrabee or Mr. Michael Yunker at (202) 273-7187.

Dated: September 27, 2004.
By Direction of the Secretary
E. Philip Riggin,
Committee Management Officer.

[FR Doc. 04-22669 Filed 10-7-04; 8:45 am]

BILLING CODE 8320-01-M